SECURITIES AND EXCHANGE COMMISSION

Submission for OMB Review; Comment Request

Upon written request, copies available from: Securities and Exchange Commission, Office of Filings and Information Services, Washington, DC 20549.

Extension: Rule 87, SEC File No. 270-474, OMB Control No. 3235-0552.

Notice is hereby given that, pursuant to the Paperwork Reduction Act of 1995 (44 U.S.C. 3501, et seq.), the Securities and Exchange Commission (“Commission”) has submitted to the Office of Management and Budget (“OMB”) a request for an extension of the previously approved collection of information discussed below.

Information relevant to Rule 87 (17 CFR 250.87) under the Public Utility Holding Company Act of 1935 (15 U.S.C. 79a et seq.) (“Act”) is required to be reported under Item 8 of Form U5-S. Item 8 of Form U5-S requires reporting of any recurring goods and service transactions in excess of $100,000 provided by an electric or gas utility to any associate company under Rule 87(a)(3). Item 8 of Form U5-S also requires reporting of any goods and service transactions in excess of $100,000 by any non-utility subsidiary to any associate company under Rule 87(b)(1). It is estimated that the total number of respondents is 200. The average number of responses per respondent is 1 response annually. The burden of responding is accounted for primarily through Form U5-S. To account for administrative time, the Commission estimates that the total annual reporting burden under rule 87 is 1 hour per respondent.

These estimates of average burden hours are made solely for the purposes of the Paperwork Reduction Act and are not derived from a comprehensive or even a representative survey or study of the costs of SEC rules and forms. There is no requirement to keep the information in the forms confidential because it is public information. An agency may not conduct or sponsor, and a person is not required to respond to a collection of information unless it displays a currently valid control number.

Please direct general comments regarding the above information to the following persons: (i) Desk officer for the Securities and Exchange Commission, Office of Information and Regulatory Affairs, Office of Management and Budget, Room 10102, New Executive Office Building, Washington, DC 20503 or send an email to: David_Rostker@omb.eop.gov; and (ii) R. Corey Booth, Director/Chief Information Officer, Office of Information Technology, Securities and Exchange Commission, 450 5th Street, NW., Washington, DC 20549. Comments must be submitted to OMB within 30 days of this notice.

Dated: March 16, 2004.
J. Lynn Taylor,
Assistant Secretary.

[FR Doc. 04-6510 Filed 3-23-04; 8:45 am]

BILLING CODE 8010-01-U